NUCLEAR REGULATORY COMMISSION

[NRC-2011-0135]

Interim Staff Guidance Regarding the Environmental Report for Applications To Construct and/or Operate Medical Isotope Production Facilities

AGENCY: Nuclear Regulatory Commission.

ACTION: Interim staff guidance; request for public comment.

SUMMARY: The U.S. Nuclear Regulatory Commission (NRC) staff is requesting public comment on a proposed draft Interim Staff Guidance (ISG), NPR-ISG-2011-001, “Staff Guidance Regarding the Environmental Report for Applications to Construct and/or Operate Medical Isotope Production Facilities.” This ISG provides guidance to the Environmental Review and Guidance Update Branch (RERB) of the Division of License Renewal (DLR), Office of Nuclear Reactor Regulation on the information that should be included in the Environmental Report, which is part of an application to construct and operate a medical isotope production facility. The draft ISG is located in the Agencywide Documents Access and Management System (ADAMS) ML11116A166.

DATES: Comments may be submitted by August 4, 2011. Comments received after this date will be considered, if it is practical to do so, but the Commission is able to ensure consideration only for comments received on or before this date.

ADDRESSES: You may submit comments by any one of the following methods. Please include Docket ID NRC-2011-0135 in the subject line of your comments. Comments submitted in writing or in electronic form will be posted on the NRC Web site and on the Federal rulemaking Web site http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

• Federal rulemaking Web site: Go to http://www.regulations.gov and search for documents filed under Docket ID NRC-2011-0135. Address questions about NRC dockets to Carol Gallagher 301-492-3668; e-mail carol.gallagher@nrc.gov.

• Mail comments to: Cindy K. Bladey, Chief, Rules, Announcements, and Directives Branch (RADB), Division of Administrative Services, Office of Administration, Mail Stop: TWB-05-B01M, U.S. Nuclear Regulatory Commission, Washington, DC 20555-0001, or by fax to RADB at 301-492-3446.

You can access publicly available documents related to this notice using the following methods:

• NRC's Public Document Room (PDR): The public may examine and have copied for a fee publicly available documents at the NRC's PDR, Room O1 F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

• Federal Rulemaking Web site: Public comments and supporting materials related to this notice can be found at http://www.regulations.gov by searching for documents filed under Docket ID: NRC-2011-0135.

FOR FURTHER INFORMATION CONTACT: Mr. Scott Sloan, Project Manager, Office of Nuclear Reactor Regulation, U.S. Nuclear Regulatory Commission, Washington, DC 20555-0001; telephone: 301-415-1619, e-mail: Scott.Sloan@nrc.gov.

The NRC staff is issuing this notice to solicit public comments on the proposed NPR-ISG-2011-001. After the NRC staff considers any public comments, it will make a determination regarding issuance of the proposed ISG.

Dated at Rockville, Maryland, this 13th day of June 2011.
For the Nuclear Regulatory Commission.
Andrew S. Imboden,
Chief, Environmental Review and Guidance Update Branch, Division of License Renewal, Office of Nuclear Reactor Regulation.

[FR Doc. 2011-15227 Filed 6-17-11; 8:45 am]

BILLING CODE 7590-01-P